FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington, DC 20551-0001, not later than June 25, 2021.

A. Federal Reserve Bank of Minneapolis (Chris P. Wangen, Assistant Vice President), 90 Hennepin Avenue, Minneapolis, Minnesota 55480-0291:

1. The Amended and Restated Kermit J. Zaffke aka John Zaffke Revocable Trust, and The Amended and Restated Karen J. Zaffke Revocable Trust, Karen J. Zaffke and Kermit J. Zaffke, as co-trustees of both trusts and all of Green Valley, Arizona; as a group acting in concert to retain voting shares of Randall Bancorp, Inc., and thereby indirectly retain voting shares of Randall State Bank, both of Randall, Minnesota.

B. Federal Reserve Bank of Chicago (Colette A. Fried, Assistant Vice President), 230 South LaSalle Street, Chicago, Illinois 60690-1414:

1. F. Addison Jones as trustee of the F. Addison Jones Survivor Trust and the Marion A Jones Descendant Trust, Grinnell State Bank and F. Austin Jones as co-trustees of the David A. Jones Irrevocable Trust and the F. Austin Jones Irrevocable Trust, Fitzpatrick A Jones, David Aric Jones, and Alyson Marie Jones, all of Grinnell, Iowa; Kelsey Megan McCulley, Wellman, Iowa; Anthony Joseph Jones, Cumming, Iowa; and Miranda Austin Bradberry, Tiffin, Iowa; to become members of the Jones Family Control Group, a group acting in concert, to retain voting shares of Grinnell Bancshares, Inc., and thereby indirectly retain voting shares of Grinnell State Bank, both of Grinnell, Iowa.

Board of Governors of the Federal Reserve System, June 7, 2021.
Michele Taylor Fennell,
Deputy Associate Secretary of the Board.

[FR Doc. 2021-12169 Filed 6-9-21; 8:45 am]

BILLING CODE P